NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time: November 6, 2013; 8:30 a.m. to 5:00 p.m.; November 7, 2013; 8:30 a.m. to 2:00 p.m.

Place: National Science Foundation, Room 375, 4201 Wilson Boulevard, Arlington, VA 22230.

Type of Meeting: Open.

Contact Person: Teresa Caravelli, National Science Foundation, 4201 Wilson Boulevard, Arlington, VA 22230, (703) 292-8600, tcaravel@nsf.gov.

To help facilitate your entry into the building, please contact Teresa Caravelli on or prior to Monday, November 4, 2013.

Purpose of Meeting: To provide advice with respect to the Foundation's science, technology, engineering, and mathematics (STEM) education and human resources programming.

Agenda

November 6, 2013

• Remarks by the Committee Chair and NSF Assistant Director for Education and Human Resources (EHR)

• Brief updates on EHR and Committee of Visitor Reports

• Presentation, Discussion, and Committee Endorsement of Subcommittee Reports

○ STEM Learning and Learning Environments Subcommittee

○ STEM Broadening Participation Subcommittee

○ STEM Workforce Development Subcommittee

• Continued Committee discussion of Next Steps for Subcommittee Reports

○ Stakeholder Development, Partnerships, and Networks

○ Goal Setting and Evidence Gathering

• Panel Discussion with Outgoing Committee Members

November 7, 2013

• Panel Discussion on NSF's Role in the National Dialogue on Standards, Instruction, and Indicators

• Committee visit with NSF Acting Director Marrett

• Action Plan Development

Dated: September 30, 2013.
Susanne Bolton,
Committee Management Officer.

[FR Doc. 2013-24199 Filed 10-2-13; 8:45 am]

BILLING CODE 7555-01-P